DEPARTMENT OF LABOR

Employment and Training Administration

[TA-W-41,875]

Agrium Conda Phosphate Operations, Soda Springs, Idaho; Notice of Termination of Investigation

Pursuant to Section 221 of the Trade Act of 1974, an investigation was initiated on July 22, 2002, in response to a petition filed on behalf of workers at Agrium Conda Phosphate Operations, Soda Springs, Idaho.

The petitioner has requested that the petition be withdrawn. Consequently, further investigation in this case would serve no purpose, and the investigation has been terminated.

Signed in Washington, DC this 10th day of September 2002.
Elliott S. Kushner,
Certifying Officer, Division of Trade Adjustment Assistance.

[FR Doc. 02-24508 Filed 9-26-02; 8:45 am]

BILLING CODE 4510-30-P